DEPARTMENT OF HOUSING AND URBAN DEVELOPMENT

[Docket No. FR-5609-N-09]

Proposed Information Collection for Public Comment: Electronic Stakeholder Survey—Office for International and Philanthropic Innovation

AGENCY: Office of Policy Development and Research, HUD.

ACTION: Notice of proposed information collection.

SUMMARY: The proposed information collection requirement described below will be submitted to the Office of Management and Budget (OMB) for review, as required by the Paperwork Reduction Act of 1995, Public Law 104-13 (44 U.S.C. 3506(c)(2)(A)). The Department is soliciting public comments on the subject proposal.

DATES: Comments Due Date: October 29, 2012.

ADDRESSES: Interested persons are invited to submit comments regarding this proposal. Comments should refer to the proposal by name and/or OMB Control Number and should be sent to: Reports Liaison Officer, Office of Policy Development and Research, Department of Housing and Urban Development, 451 7th Street, SW., Room 8234, Washington, DC 20410.

FOR FURTHER INFORMATION CONTACT: Sarah Gillespie at (202) 402-5843 (this is not a toll-free number). Copies of the proposed forms and other available documents submitted to OMB may be obtained from Ms. Gillespie.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce burden, (e.g., permitting electronic submission of responses).

This Notice also lists the following information:

Title of Proposal: Electronic Stakeholder Survey.

OMB Control Number: XXXX-pending.

Description of the need for the information and proposed use: The Electronic Stakeholder Survey is necessary to collect information for demonstrating the outputs and outcomes of meetings, conferences, and other activities presented by HUD's Office for International and Philanthropic Innovation (IPI).

The Office for International and Philanthropic Innovation (IPI) supports HUD's efforts to find new solutions and align ideas and resources by working across public, private, and civil sectors to further HUD's mission. IPI works towards these goals by developing networks and facilitating collaboration of key partners and resources. To gather feedback on the various meetings, conferences, and other events and activities IPI presents, it is necessary to survey participants at both immediate and medium-term intervals. IPI is seeking to understand the effectiveness of these events in sharing information, connecting participants, establishing plans for coordination, and influencing programmatic, research, and funding agendas and resources. As we increase the effectiveness of these cross-sector convenings, HUD benefits from increased access to and synthesis of information regarding successes and failures in domestic and global housing and urban development. Residents and communities across the country also benefit from the increased impact achieved by alignment of cross-sector resources and ideas.

Members of affected public: Individuals.

Estimation of the total number of hours needed to prepare the information collection including number of respondents, frequency of response, and hours of response:

Estimated Respondent Burden Hours and Costs
Form | Respondent sample | Number of respondents | Average time to complete (minimum, maximum) in minutes | Frequency | Total burden (hours)
Stakeholder Surveys | The public | 300 | 10 | Twice a year | 100

Respondent's Obligation: Voluntary.

Status of the proposed information collection: Pending OMB approval.

Authority: Title 13 U.S.C. Section 9(a), and Title 12, U.S.C., 1701z-1 et seq.

Dated: August 21, 2012.
Erika Poethig,
Acting Assistant Secretary for Policy Development and Research.

[FR Doc. 2012-21234 Filed 8-27-12; 8:45 am]

BILLING CODE 4210-67-P